DEPARTMENT OF THE INTERIOR

Fish and Wildlife Service

Endangered and Threatened Wildlife and Plants; Initiation of 5-Year Reviews of 71 Species in Oregon, Hawaii, Commonwealth of the Northern Mariana Islands, and Territory of Guam

AGENCY: Fish and Wildlife Service, Interior.

ACTION: Notice of review.

SUMMARY: We, the U.S. Fish and Wildlife Service, announce the initiation of a 5-year review of 71 species under section 4(c)(2)(B) of the Endangered Species Act (Act). The purpose of a 5-year review is to ensure that the classification of a species as threatened or endangered on the List of Endangered and Threatened Wildlife and Plants is accurate and consistent with the best scientific and commercial data currently available. We are requesting submission of any such information that has become available since the original listing of each of the 71 species identified in Table 1 below. Based on the results of these 5-year reviews, we will determine whether any species should be proposed for removal from the list or its listing status should be changed pursuant to section 4(c)(2)(B) of the Act.

DATES: We must receive your information no later than May 7, 2007. However, we will continue to accept new information about any listed species at any time.

ADDRESSES: See “Public Solicitation of New Information” section for instructions on how to submit information.

FOR FURTHER INFORMATION CONTACT: For species-specific information, contact the appropriate individual named in “Public Solicitation of New Information.”

SUPPLEMENTARY INFORMATION:

Why Is a 5-year Review Conducted?

Under the Endangered Species Act (Act) (16 U.S.C. 1531 et seq.), we maintain a List of Endangered and Threatened Wildlife and Plants (List) at 50 CFR 17.11 (for animals) and 17.12 (for plants). Section 4(c)(2)(A) of the Act requires that we conduct a review of listed species at least once every 5 years. Then, on the basis of such reviews under section 4(c)(2)(B), we determine whether or not any species should be removed from the List (delisted), or reclassified from endangered to threatened or from threatened to endangered. These Actions must be supported by the best scientific and commercial data available, delisting a species is considered only if such data substantiates that the species is neither endangered nor threatened for one or more of the following reasons: (1) The species is considered extinct; (2) the species is considered to be recovered; and/or (3) the original data available when the species was listed, or the interpretation of such data, were in error (50 CFR 424.11(d)). Any change in Federal classification would require a separate rulemaking process. The regulations in 50 CFR 424.21 require that we publish a notice in the Federal Register announcing those species currently under active review. This notice announces our active review of the 71 species listed in Table 1.

Table 1.—Summary of the Listing Information for the Following 71 Species in Oregon (OR)
[Hawaii (HI), Commonwealth of the Northern Mariana Islands (MP), and Territory of Guam (GU). Note: Common names are listed as published in the CFR and may not reflect all or current common names.]
Common name | Scientific name | Status | Where listed | Final listing rule
Animals
Bat, little Mariana fruit | Pteropus tokudae | Endangered | U.S.A. (GU) | 49 FR 33881 (27-Aug-84).
White-eye, Bridled (Guam) | Zosterops conspicillatus conspicillatus | Endangered | U.S.A. (GU) | 49 FR 33881 (27-Aug-84).
Rail, Guam | Rallus owstoni | Endangered | U.S.A. (GU) | 49 FR 33881 (27-Aug-84).
Crow, Hawaiian | Corvus hawaiiensis | Endangered | U.S.A. (HI) | 32 FR 4001 (11-Mar-67).
Duck, Hawaiian | Anas wyvilliana | Endangered | U.S.A. (HI) | 32 FR 4001 (11-Mar-67).
Hawk, Hawaiian | Buteo solitarius | Endangered | U.S.A. (HI) | 58 FR 41684 (11-Mar-67).
Moorhen, Mariana common | Gallinula chloropus guami | Endangered | U.S.A. (GU, MP) | 49 FR 33881 (27-Aug-84).
Warbler, nightingale reed, (old world warbler) | Acrocephalus luscinia | Endangered | U.S.A. (MP) | 35 FR 18319 (02-Jun-70).
Elepaio, Oahu | Chasiempis sandwichensis ibidis | Endangered | U.S.A. (HI) | 65 FR 20760 (19-Apr-00).
Palila (honeycreeper) | Loxioides bailleui | Endangered | U.S.A. (HI) | 32 FR 4001 (11-Mar-67).
Thrush, small Kauai | Myadestes palmeri | Endangered | U.S.A. (HI) | 32 FR 4001 (11-Mar-67).
Snail, Newcomb's | Erinna newcombi | Endangered | U.S.A. (HI) | 65 FR 4162 (26-Jan-00).
Moth, Blackburn's sphinx | Manduca blackburni | Endangered | U.S.A. (HI) | 65 FR 4770 (01-Feb-00).
Chub, Oregon | Oregonichthys crameri | Threatened | U.S.A. (OR) | 58 FR 53800 (18-Oct-93).
Plants
No common name | Achyranthes mutica | Endangered | U.S.A. (HI) | 61 FR 53108 (10-Nov-96).
Round-leaved chaff-flower | Achyranthes splendens var.rotundata | Endangered | U.S.A. (HI) | 51 FR 10518 (07-Apr-86).
No common name | Alsinidendron trinerve | Endangered | U.S.A. (HI) | 56 FR 55770 (29-Oct-91).
No common name | Alsinidendron viscosum | Endangered | U.S.A. (HI) | 61 FR 53070 (10-Oct-96).
Mauna Loa Silversword | Argyroxiphium kauense | Endangered | U.S.A. (HI) | 58 FR 18029 (07-Apr-93).
Kamanomano | Cenchrus agrimonioides | Endangered | U.S.A. (HI) | 61 FR 53108 (10-Oct-96).
Haha | Cyanea acuminata | Endangered | U.S.A. (HI) | 61 FR 53089 (10-Oct-96).
Haha | Cyanea asarifolia | Endangered | U.S.A. (HI) | 59 FR 9304 (25-Feb-94).
No common name | Cyanea crispa | Endangered | U.S.A. (HI) | 59 FR 14482 (28-Mar-94).
Haha | Cyanea hamatiflora ssp. carlsonii | Endangered | U.S.A. (HI) | 59 FR 10305 (04-Mar-94).
Haha | Cyanea hamatiflora ssp. hamatiflora | Endangered | U.S.A. (HI) | 64 FR 48307 (03-Sep-99).
Haha | Cyanaea longiflora | Endangered | U.S.A. (HI) | 61 FR 53089 (10-Oct-96).
Haha | Cyanea shipmanii | Endangered | U.S.A. (HI) | 59 FR 10305 (04-Mar-94).
Haiwale | Cyrtandra polyantha | Endangered | U.S.A. (HI) | 59 FR 14482 (28-Mar-94).
Haiwale | Cyrtandra viridiflora | Endangered | U.S.A. (HI) | 61 FR 53089 (10-Oct-96).
Naenae | Dubautia pauciflorula | Endangered | U.S.A. (HI) | 56 FR 47695 (20-Sep-91).
Naenae | Dubautia plantaginea ssp. humilis | Endangered | U.S.A. (HI) | 64 FR 48607 (03-Sep-99).
Mehamehame | Flueggea neowawraea | Endangered | U.S.A. (HI) | 59 FR 56333 (10-Nov-94).
Na Pali beach hedyotis | Hedyotis st.-johnii | Endangered | U.S.A. (HI) | 56 FR 49639 (30-Sep-91).
No common name | Hesperomannia arborescens | Endangered | U.S.A. (HI) | 59 FR 14482 (28-Mar-94).
No common name | Hesperomannia arbuscula | Endangered | U.S.A. (HI) | 56 FR 55770 (29-Oct-91).
Kauai hau kuahiwi | Hibiscadelphus distans | Endangered | U.S.A. (HI) | 51 FR 5903 (29-Apr-86).
Mao hau hele | Hibiscus brackenridgei | Endangered | U.S.A. (HI) | 59 FR 56333 (10-Nov-94).
Aupaka | Isodendrion laurifolium | Endangered | U.S.A. (HI) | 61 FR 53108 (10-Oct-96).
Koki‘o | Kokia drynarioides | Endangered | U.S.A. (HI) | 49 FR 47394 (12-Apr-84).
Kamakahala | Labordia lydgatei | Endangered | U.S.A. (HI) | 56 FR 47695 (20-Sep-91).
Kamakahala | Labordia tinifolia var. wahiawaensis | Endangered | U.S.A. (HI) | 61 FR 53070 (10-Oct-96).
Anaunau | Lepidium arbuscula | Endangered | U.S.A. (HI) | 61 FR 53089 (10-Oct-96).
Nehe | Lipochaeta kamolensis | Endangered | U.S.A. (HI) | 57 FR 20772 (15-May-92).
No common name | Lobelia gaudichaudii ssp. koolauensis | Endangered | U.S.A. (HI) | 61 FR 53089 (10-Oct-96).
No common name | Lysimachia filifolia | Endangered | U.S.A. (HI) | 59 FR 9304 (25-Feb-94).
Alani | Melicope haupuensis | Endangered | U.S.A. (HI) | 59 FR 9304 (25-Feb-94).
Alani | Melicope knudsenii | Endangered | U.S.A. (HI) | 59 FR 9304 (25-Feb-94).
Alani | Melicope lydgatei | Endangered | U.S.A. (HI) | 59 FR 14482 (28-Mar-94).
Aiea | Nothocestrum peltatum | Endangered | U.S.A. (HI) | 59 FR 9304 (25-Feb-94).
No common name | Phyllostegia knudsenii | Endangered | U.S.A. (HI) | 61 FR 53070 (10-Oct-96).
No common name | Phyllostegia mollis | Endangered | U.S.A. (HI) | 56 FR 55770 (29-Oct-91).
No common name | Phyllostegia wawrana | Endangered | U.S.A. (HI) | 61 FR 53070 (10-Oct-96).
No common name | Platanthera holochila | Endangered | U.S.A. (HI) | 61 FR 53108 (10-Oct-96).
Loulu | Pritchardia remota | Endangered | U.S.A. (HI) | 61 FR 43178 (21-Aug-96).
Loulu | Pritchardia schattaueri | Endangered | U.S.A. (HI) | 61 FR 53137 (10-Oct-96).
Maui remya | Remya mauiensis | Endangered | U.S.A. (HI) | 56 FR 1450 (14-Jan-91).
No common name | Schiedea kauaiensis | Endangered | U.S.A. (HI) | 61 FR 53108 (10-Oct-96).
No common name | Schiedea nuttallii | Endangered | U.S.A. (HI) | 61 FR 53108 (10-Oct-96).
No common name | Schiedea verticillata | Endangered | U.S.A. (HI) | 61 FR 43178 (21-Aug-96).
Aiakeakua, popolo | Solanum sandwicense | Endangered | U.S.A. (HI) | 59 FR 9304 (30-Oct-92).
No common name | Stenogyne campanulata | Endangered | U.S.A. (HI) | 57 FR 20580 (13-May-92).
No common name | Tetramolopium lepidotum ssp. lepidotum | Endangered | U.S.A. (HI) | 56 FR 55770 (29-Oct-91).
Thelypody, Howell’s Spectacular | Thelypody howellii var. spectabilis | Threatened | U.S.A. (OR) | 64 FR 28393 (26-MAY-99).
No common name | Trematalobelia singularis | Endangered | U.S.A. (HI) | 61 FR 53089 (10-Oct-96).
Nani waialeale | Viola kauaensis var. wahiawaensis | Endangered | U.S.A. (HI) | 61 FR 53070 (10-Oct-96).
No common name | Xylosma creantum | Endangered | U.S.A. (HI) | 57 FR 20580 (13-May-92).
Ae | Zanthoxylum dipetalum var. tomentosum | Endangered | U.S.A. (HI) | 51-FR 53137 (25-Sep-96).
Pauoa | Ctenitis squamigera | Endangered | U.S.A. (HI) | 59 FR 49025 (26-Sep-94).
No common name | Diellia erecta | Endangered | U.S.A. (HI) | 59 FR 56333 (25-Sep-96).
Wawaeiole | Phlegmariurus (=Huperzia) nutans | Endangered | U.S.A. (HI) | 59 FR 14493 (28-Mar-94).
No common name | Pteris lydgatei | Endangered | U.S.A. (HI) | 59 FR 49025 (26-Sep-94).

What Information Is Considered in the Review?

A 5-year review considers all new information available at the time of the review. In conducting these reviews, we consider the best scientific and commercial data that has become available since the current listing determination or most recent status review, such as:

A. Species biology including, but not limited to, population trends, distribution, abundance, demographics, and genetics;

B. Habitat conditions including, but not limited to, amount, distribution, and suitability;

C. Conservation measures that have been implemented that benefit the species;

D. Threat status and trends (see five factors under heading “How Do We Determine Whether a Species is Endangered or Threatened?”); and

E. Other new information, data, or corrections including, but not limited to, taxonomic or nomenclatural changes, identification of erroneous information contained in the List, and improved analytical methods.

How Do We Determine Whether a Species Is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Our assessment of these factors is required, under section 4(b)(1) of the Act, to be based solely on the best scientific and commercial data available.

What Could Happen as a Result of This Review?

If we find information concerning the 71 species listed in Table 1 indicating that a change in classification may be warranted, we may propose a new rule that could do one of the following: (a) Reclassify the species from threatened to endangered; (b) reclassify the species from endangered to threatened; or (c) remove the species from the List. If we find that a change in classification is not warranted, the species will remain on the List under its current status.

Public Solicitation of New Information

To ensure that these 5-year reviews are complete and based on the best available scientific and commercial information, we solicit new information from the public, governmental agencies, Tribes, the scientific community, environmental entities, industry, and any other interested parties concerning the status of the species.

If you wish to provide information for any species included in these 5-year reviews, submit your comments and materials to the Field Supervisors at the appropriate Fish and Wildlife Office listed below. Our practice is to make comments, including names and home addresses of respondents, available for public review during regular business hours. Respondents may request that we withhold a respondent's identity, as allowable by law. If you wish us to withhold your name or address, you must state this request prominently at the beginning of your comment. To the extent consistent with applicable law, we will make all submissions from organizations or businesses, and from individuals identifying themselves as representatives or officials of organizations or businesses, available for public inspection in their entirety. Comments and materials received will be available for public inspection, by appointment, during normal business hours at the offices where the comments are submitted.

For the species under review, submit information and direct species specific questions to the addresses and individuals as follows:

For the Oregon chub and the Howell's spectacular thelypody, submit information to the following address: Field Supervisor, Attention: 5-Year Review, U.S. Fish and Wildlife Service, Oregon Fish and Wildlife Office, 2600 SE 98th Avenue, Suite 100, Portland, OR 97266, or at FW1OR5yearReview@fws.gov. For information concerning these species, Contact Rollie White at 503-231-6179.

For the species in Hawaii, Commonwealth of the Northern Mariana Islands, and Territory of Guam, submit information to the following address: Field Supervisor, Attention: 5-Year Review, U.S. Fish and Wildlife Service, Pacific Islands Fish and Wildlife Office, 300 Ala Moana Blvd., Room 3-122, Box 50088, Honolulu, HI 96850, or at pifwo-5yr-review@fws.gov. For information concerning these species, contact Marilet A. Zablan at 808-792-9400.

Authority: This document is published under the authority of the Endangered Species Act of 1973, as amended (16 U.S.C. 1531 et seq.).

Dated: February 1, 2007.
David J. Wesley,
Acting Regional Director, Region 1, U.S. Fish and Wildlife Service.

[FR Doc. E7-3624 Filed 3-7-07; 8:45 am]

BILLING CODE 4310-55-P